Title 3—

The President

Executive Order 13743 of October 13, 2016

Charitable Fundraising

By the authority vested in me as President by the Constitution and the laws of the United States of America, and in order to provide for a more comprehensive workplace giving program, it is hereby ordered as follows:

Section 1. Executive Order 12353 of March 23, 1982, as amended, is further amended as follows:

(a) By revising the introductory paragraph by deleting the term “voluntary agencies” and inserting in its place the term “voluntary health and welfare organizations”; and by deleting the term “recipient agencies” and inserting in its place “recipient organizations”.

(b) By revising section 1 of that order to read as follows:

“Section 1.

(a) The Director of the Office of Personnel Management shall make arrangements for voluntary health and welfare organizations to solicit contributions from Federal employees and members of the uniformed services at their places of employment or duty. Federal employees and members of the uniformed services can also be solicited to make pledges of volunteer time. These arrangements shall take the form of an annual Combined Federal Campaign in which eligible voluntary health and welfare organizations are authorized to take part.

(b) The Director shall consider permitting annuitants to make contributions to the Combined Federal Campaign through allotments or assignments of amounts from their Federal annuities. The Director may prescribe rules and regulations to govern the solicitation of such contributions and make arrangements to inform annuitants of their ability to make contributions in this manner.”

(c) By revising section 2(a) by deleting the term “voluntary agencies” and inserting in its place the term “voluntary health and welfare organizations”.

(d) By revising the first clause of section 2(b)(1) to delete “and of local communities”.

(e) By revising section 2(b)(2) by deleting the first instance of the word “agencies” and inserting in its place the word “organizations”.

(f) By revising section 2(b)(3) by deleting the term “Agencies” and inserting in its place the term “Organizations”; and by deleting the term “charitable health and welfare agencies” and inserting in its place the term “charitable health and welfare organizations”.

(g) By revising section 2(b)(5) to read as follows:

“(5) Local voluntary, charitable, health and welfare organizations that are not affiliated with a national organization or federation but that satisfy the eligibility criteria set forth in this order and by the Director shall be permitted to participate in the Combined Federal Campaign.”

(h) By revising section 3 by deleting the term “voluntary agencies” and inserting in its place the term “voluntary health and welfare organizations”.

(i) By revising section 5 to read as follows:

“Sec. 5. Subject to such rules and regulations as the Director may prescribe, the Director may authorize:

(a) outreach coordinators to conduct campaign promotion in a local Combined Federal Campaign; and

(b) central campaign administrators to administer application and pledging systems and to collect and disburse pledged funds.

Such authorizations shall, if made, ensure at a minimum that outreach coordinators and central campaign administrators operate subject to the direction and control of the Director and such local Federal coordinating entities as may be established; and manage the Combined Federal Campaign fairly and equitably. The Director may consult with and consider advice from interested parties and organizations, and shall publish reports on the management and results of the Combined Federal Campaign.”

(j) By revising section 6 to read as follows:

“Sec. 6. The methods for the solicitation of funds shall clearly specify the eligible organizations and provide a direct means to designate funds to such organizations. Where allocation of undesignated funds by the central campaign administrator is authorized by the Director, prominent notice of the authorization for such allocation shall be provided.”

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) All rules, regulations, and directives continued or issued under Executive Order 12353, as amended, shall continue in effect until revoked or modified under the provisions of this order.

THE WHITE HOUSE,

October 13, 2016.

[FR Doc. 2016-25288

Filed 10-17-16; 8:45 am]

Billing code 3295-F7-P